DEPARTMENT OF HOUSING AND URBAN DEVELOPMENT

24 CFR Part 578

[Docket No. FR-5783-C-03]

RIN 2501-AD66

Uniform Administrative Requirements, Cost Principles, and Audit Requirements for Federal Awards: Conforming Amendments; Correction

AGENCY: Office of the Secretary, HUD.

ACTION: Final rule; correction.

SUMMARY: The Department of Housing and Urban Development is correcting a final rule that was published in the Federal Register on December 7, 2015 (80 FR 75931). The December 7, 2015, final rule contains an amendatory instruction that is inconsistent with amendments made by a final rule that was published on December 4, 2015 (80 FR 75791).

DATES: Effective January 6, 2016.

FOR FURTHER INFORMATION CONTACT: Scott Moore, Financial Operations Analyst, Office of the Chief Financial Officer, Financial Policy & Procedures Division, 451 7th Street SW., Room 3210, Washington, DC 20410, telephone number 202-402-2277, or Loyd LaMois, Supervisory Program Analyst, Office of Strategic Planning and Management, 451 7th Street SW., Room 3156, Washington, DC 20410, telephone number 202-402-3964. These are not a toll-free numbers. Persons with hearing or speech impairments may access these numbers through TTY by calling the Federal Relay Service, toll-free, at 800-877-8339.

SUPPLEMENTARY INFORMATION: In FR Doc 2015-29692 appearing at page 75931 in the Federal Register of Monday, December 7, 2015, the following correction is made:

§ 578.103 [Corrected]

On page 75940, in the second column, amendatory instruction 98.a., is corrected to read as follows: “a. In paragraph (a)(17)(iii), remove `24 CFR 85.36 and 24 CFR part 84' and add in its place `2 CFR part 200, subpart D'; and”.

Dated: December 21, 2015.
Aaron Santa Anna,
Assistant General Counsel for Regulations.

[FR Doc. 2015-32470 Filed 12-23-15; 8:45 am]

BILLING CODE 4210-67-P